DEPARTMENT OF ENERGY

Federal Energy Regulatory Commission

[Project No. 2210-095-VA]

Appalachian Power Company; Notice of Availability of Environmental Assessment

August 16, 2004.

In accordance with the National Environmental Policy Act of 1969 and the Federal Energy Regulatory Commission's (Commission) regulations, 18 CFR Part 380 (Order No. 486, 52 FR 47897), the Office of Energy Projects has reviewed an application for non-project use of project lands and waters at the Smith Mountain Pumped Storage Project (FERC No. 2210) and has prepared an Environmental Assessment (EA) for the proposed non-project use. The project is located on the Roanoke and Blackwater Rivers in Bedford, Campbell, Pittsylvania, Franklin, and Roanoke Counties, Virginia.

In the application, Appalachian Power Company (licensee) requests Commission authorization to permit Resource Partners, L.L.C. to install and operate boat dock facilities at a residential development known as The Cottages at Contentment Island located along the Blackwater River portion of Smith Mountain Lake. No dredging is planned as part of this proposal. The EA contains the Commission staff's analysis of the probable environmental impacts of the proposal and concludes that approving the licensee's application, with staff's recommended environmental measures, would not constitute a major federal action significantly affecting the quality of the human environment.

The EA is attached to a Commission order titled “Order Modifying and Approving Non-Project Use of Project Lands and Waters,” which was issued August 13, 2004, and is available for review and reproduction at the Commission's Public Reference Room, located at 888 First Street, NE., Room 2A, Washington, DC 20426. The EA may also be viewed on the Commission's Web site at http://www.ferc.gov using the “elibrary” link. Enter the docket number (prefaced by P-) and excluding the last three digits, in the docket number field to access the document. For assistance, contact FERC Online Support at FERCOnlineSupport@ferc.gov or toll-free at (866) 208-3676, or for TTY, contact (202) 502-8659.

Linda Mitry,
Acting Secretary.

[FR Doc. E4-1865 Filed 8-19-04; 8:45 am]

BILLING CODE 6717-01-P